DEPARTMENT OF COMMERCE

International Trade Administration

(A-489-815)

Notice of Antidumping Duty Order: Light-Walled Rectangular Pipe and Tube From Turkey

AGENCY: Import Administration, International Trade Administration, Department of Commerce.

SUMMARY: Based on affirmative final determinations by the Department of Commerce (the Department) and the U.S. International Trade Commission (The ITC), the Department is issuing this antidumping duty order on light-walled rectangular pipe and tube from Turkey. On May 23, 2008, the ITC notified the Department of its affirmative determination of injury to a U.S. industry. See letter from the ITC to the Secretary of Commerce (Investigation No. 731-TA-1121 (Final)), dated May 23, 2008. See also Light-Walled Rectangular Pipe and Tube from Turkey, USITC Publication 4001, May, 2008 (Investigation No. 731-TA-1121 (Final)).

EFFECTIVE DATE: May 30, 2008.

FOR FURTHER INFORMATION CONTACT: Tyler Weinhold or Robert James, AD/CVD Operations, Office 7, Import Administration, International Trade Administration, U.S. Department of Commerce, 14th Street and Constitution Avenue, NW, Washington, DC 20230; telephone: (202) 482-1121, or (202) 482-0649, respectively.

SUPPLEMENTARY INFORMATION: The final determination in this investigation was published on April 11, 2008. See Notice of Final Determination of Sales at Less Than Fair Value: Light-Walled Rectangular Pipe and Tube from Turkey, 73 FR 19814 (April 11, 2008).

Scope of the Order

The merchandise subject to this order is certain welded carbon quality light-walled steel pipe and tube, of rectangular (including square) cross section, having a wall thickness of less than 4 mm. The term carbon-quality steel includes both carbon steel and alloy steel which contains only small amounts of alloying elements. Specifically, the term carbon-quality includes products in which none of the elements listed below exceeds the quantity by weight respectively indicated: 1.80 percent of manganese, or 2.25 percent of silicon, or 1.00 percent of copper, or 0.50 percent of aluminum, or 1.25 percent of chromium, or 0.30 percent of cobalt, or 0.40 percent of lead, or 1.25 percent of nickel, or 0.30 percent of tungsten, or 0.10 percent of molybdenum, or 0.10 percent of niobium, or 0.15 percent vanadium, or 0.15 percent of zirconium. The description of carbon-quality is intended to identify carbon-quality products within the scope. The welded carbon-quality rectangular pipe and tube subject to this order is currently classified under the Harmonized Tariff Schedule of the United States (HTSUS) subheadings 7306.61.50.00 and 7306.61.70.60. While HTSUS subheadings are provided for convenience and Customs purposes, our written description of the scope of the order is dispositive.

Antidumping Duty Order

On May 23, 2008, in accordance with section 735(d) of the Tariff Act of 1930, as amended (the Act), the ITC notified the Department of its final determination pursuant to section 735(b)(1)(A)(i) of the Act that an industry in the United States is materially injured by reason of less-than-fair-value imports of light-walled rectangular pipe and tube from Turkey.

Therefore, in accordance with section 736(a)(1) of the Act, the Department will direct U.S. Customs and Border Protection (CBP) to assess, upon further instruction by the Department, antidumping duties equal to the amount by which the normal value of the merchandise exceeds the export price (or the constructed export price) of the merchandise for all relevant entries of light-walled rectangular pipe and tube from Turkey. These antidumping duties will be assessed on all entries of light-walled rectangular pipe and tube from Turkey entered, or withdrawn from warehouse, for consumption on or after January 30, 2008, the date on which the Department published its notice of preliminary determinations in the Federal Register. See Notice of Preliminary Determination of Sales at Less Than Fair Value: Light-Walled Rectangular Pipe and Tube From Turkey, 73 FR 5508 (January 30, 2008).

CBP officers must require, at the same time as importers would normally deposit estimated duties on this merchandise, a cash deposit equal to the estimated weighted-average antidumping duty margins as noted below. The all-others rate applies to all manufacturers and exporters of subject merchandise not specifically listed.

The weighted-average dumping margins are as follows:

Producer/Exporter | Weighted-Average Margin (Percentage)
Guven Boru Profil Sanayii ve Ticaret Limited Sirketi | 41.71
MMZ Onur Boru Profil Uretim San. ve Tic. A.S | 41.71
Anadolu Boru | 41.71
Ayata Metal Industry | 41.71
Goktas Tube/Goktas Metal | 41.71
Kalibre Boru Sanayi ve Ticaret A.S. | 41.71
Kerim Celik Mamulleri Imalat ve Ticaret | 41.71
Ozgur Boru | 41.71
Ozmak Makina ve Elektrik Sanayi | 41.71
Seamless Steel Tube and Pipe Co. (Celbor) | 41.71
Umran Steel Pipe Inc. | 41.71
Yusan Industries, Ltd. | 41.71
Borusan Mannesmann Boru | 27.04
Erbosan Erciyas Boru Sanayii ve Ticaret A.S. | 27.04
Noksel Steel Pipe Co. | 27.04
Ozborsan Boru San. ve Tic. A.S. | 27.04
Ozdemir Boru Sanayi ve Ticaret Ltd. Sti. | 27.04
Toscelik Profil ve Sac End. A.S | 27.04
Yucel Boru ve Profil Endustrisi A.S. | 27.04
All Others | 27.04

Pursuant to section 736(a) of the Act, this notice constitutes the antidumping duty order with respect to light-walled rectangular pipe and tube from Turkey. Interested parties may contact the Department's Central Records Unit, Room 1117 of the main Commerce Building, for copies of an updated list of antidumping duty orders currently in effect.

This order is issued and published in accordance with section 736(a) of the Act and 19 CFR 351.211(b).

Dated: May 27, 2008.
David M. Spooner,
Assistant Secretary for Import Administration.

[FR Doc. E8-12243 Filed 5-29-08; 8:45 am]

BILLING CODE 3510-DS-S